DEPARTMENT OF COMMERCE

National Oceanic and Atmospheric Administration

Agency Information Collection Activities; Submission to the Office of Management and Budget (OMB) for Review and Approval; Comment Request; Fisheries Finance Program Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 20, 2023.

ADDRESSES: Interested persons are invited to submit written comments to Adrienne Thomas, NOAA PRA Officer, at NOAA.PRA@noaa.gov. Please reference OMB Control Number 0648-0012 in the subject line of your comments. Do not submit Confidential Business Information or otherwise sensitive or protected information.

FOR FURTHER INFORMATION CONTACT: Requests for additional information or specific questions related to collection activities should be directed to Brian Summers, Loan Specialist, NOAA/NMFS/FFP/FMB5, 1315 East West Highway, Silver Spring, MD 20910, (301) 427-8783, brian.summers@noaa.gov.

SUPPLEMENTARY INFORMATION:

I. Abstract

This request is for an extension of a currently approved information collection. The National Oceanic and Atmospheric Administration (NOAA) operates the Fisheries Finance Program, a direct government loan program that provides long term financing for the cost of construction or reconstruction of fishing vessels, shoreside fishery facilities, aquaculture facilities, and individual fishing quotas in the Northwest Halibut/Sablefish and Alaskan Crab Fisheries. To be eligible for this benefit program, an applicant must be an aquaculture operator or fisherman and a U.S. citizen. They must also meet all of the following:

• Have good credit and earnings record, net worth, and liquidity behind the project, and

• The project must be fully secured with their assets, including personal guarantees (non-recourse credit is not available), and

• Have at least a three-year history of owning or operating the fisheries project that will be the subject of the proposed application, or a three-year history owning or operating a comparable project.

Application information is required to determine loan eligibility pursuant to 50 CFR part 253 and to determine the type and amount of financial assistance available to the applicant. Applicants are required to submit NOAA FORM 88-1, and supporting financial documents. An annual financial statement is required from the recipients to monitor the financial status of the loan. Small stylistic changes have been made to the NOAA FORM 88-1 to make the form easier for the applicant to understand and to fill electronically, but the information collected is not changed.

II. Method of Collection

Electronic Applications.

III. Data

OMB Control Number: 0648-0012.

Form Number(s): 88-1.

Type of Review: Regular submission (extension of a current information collection).

Affected Public: Individuals or households; business or other for-profit organizations.

Estimated Number of Respondents: 336.

Estimated Time per Response: Program Application, 10 hours; Annual Financial Statement, 2 hours; Guarantor Consent, 5 minutes.

Estimated Total Annual Burden Hours: 1,184.

Estimated Total Annual Cost to Public: $0.

Respondent's Obligation: Required to obtain or retain benefits.

Legal Authority: 50 CFR part 253.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2023-00981 Filed 1-18-23; 8:45 am]

BILLING CODE 3510-22-P